DEPARTMENT OF COMMERCE

National Oceanic and Atmospheric Administration

[I.D. 100103A]

Pacific Fishery Management Council; Public Meetings

AGENCY: National Marine Fisheries Service (NMFS), National Oceanic and Atmospheric Administration (NOAA), Commerce.

ACTION: Notice of public meetings.

SUMMARY: The Pacific Fishery Management Council's (Council) Joint Salmon Technical Team (STT) and Scientific and Statistical Committee (SSC) Salmon Subcommittee will hold a work session to review proposed salmon methodology changes. The Council's Model Evaluation Workgroup (MEW) will hold a work session to review documentation of Fishery Regulation Assessment Models (FRAMs). The work sessions are open to the public.

DATES: The joint STT and SSC Salmon Subcommittee work session will be held Thursday, October 23, 2003 from 9 a.m. to noon. The MEW work session will be held Thursday, October 23, 2003 from 1 p.m. to 5 p.m.

ADDRESSES: The work sessions will be held at the Embassy Suites Hotel, Pine II Room, 7900 NE 82nd Ave., Portland, OR 97220; telephone: 503-460-3000.

Council address: Pacific Fishery Management Council, 7700 NE Ambassador Place, Suite 200, Portland, OR 97220-1384.

FOR FURTHER INFORMATION CONTACT: Mr. Chuck Tracy, Salmon Management Staff Officer, Pacific Fishery Management Council; telephone: (503) 820-2280.

SUPPLEMENTARY INFORMATION: The purpose of the joint STT & SSC Salmon Subcommittee work session is to brief the STT and SSC on changes made to or proposed for the Coho FRAM, review the scientific bases for those changes, and compare results from the updated model with those from the previous version. The purpose of the MEW work session is to further develop documentation for the Chinook and Coho FRAM.

Although non-emergency issues not contained in the meeting agendas may come before the these groups for discussion, those issues may not be the subject of formal action during these meetings. Action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 820-2280 at least 5 days prior to the meeting date.

Dated: October 2, 2003.
Richard W. Surdi,
Acting Director, Office of Sustainable Fisheries, National Marine Fisheries Service.

[FR Doc. 03-25374 Filed 10-6-03; 8:45 am]

BILLING CODE 3510-22-S